DEPARTMENT OF COMMERCE

National Oceanic and Atmospheric Administration

RIN 0648-XD48

U.S. Climate Change Science Program Synthesis and Assessment Product Draft Report 4.7 “Impacts of Climate Change and Variability on Transportation Systems and Infrastructure: Gulf Coast Study”

AGENCY: National Oceanic and Atmospheric Administration (NOAA), Department of Commerce.

ACTION: Notice of availability and request for public comments.

SUMMARY: The National Oceanic and Atmospheric Administration publishes this notice to announce a 45-day public comment period for the draft report titled, U.S. Climate Change Science Program Synthesis and Assessment Product 4.7: “Impacts of Climate Change and Variability on Transportation Systems and Infrastructure: Gulf Coast Study.”

This draft document is being released solely for the purpose of pre-dissemination peer review under applicable information quality guidelines. This document has not been formally disseminated by NOAA. It does not represent and should not be construed to represent any Agency policy or determination. After consideration of comments received on the draft report, a revised version along with the comments received will be published on the CCSP web site.

DATES: Comments must be received by December 10, 2007.

ADDRESSES: The draft Synthesis and Assessment Product 4.7: “Impacts of Climate Change and Variability on Transportation Systems and Infrastructure: Gulf Coast Study.” is posted on the CCSP Web site at:

www.climatescience.gov/Library/sap/sap4-7/public-review-draft/default.htm.

Detailed instructions for making comments on this draft report are provided on the SAP webpage. Comments must be prepared in accordance to these instructions and must be submitted to: 4.7-transport@usgcrp.gov

FOR FURTHER INFORMATION CONTACT: Dr. Fabien Laurier, Climate Change Science Program Office, 1717 Pennsylvania Avenue NW, Suite 250, Washington, DC 20006, Telephone: (202) 419 3481.

SUPPLEMENTARY INFORMATION: The CCSP was established by the President in 2002 to coordinate and integrate scientific research on global and climate changes sponsored by 13 participating departments and agencies of the U.S. Government. The CCSP is charged with preparing information resources that promote climate-related discussions and decisions, including scientific synthesis and assessment analyses that support evaluation of important policy issues. Synthesis and Assessment Product 4.7 identifies the potential effects of climate variability and change in transportation infrastructure and systems in the central U.S. Gulf coast. The purpose of this study is to develop knowledge and tools that will assist transportation decision makers in incorporating climate-related trend information into transportation system planning, design, engineering, and operational decisions. Implications for all transportation modes-surface, marine, and aviation-are addressed.

Dated: October 17, 2007.
William J. Brennan,
Deputy Assistant Secretary of Commerce for International Affairs, and Acting Director, Climate Change Science Program.

[FR Doc. E7-21048 Filed 10-24-07; 8:45 am]

BILLING CODE 3510-12-S